DEPARTMENT OF COMMERCE

National Oceanic and Atmospheric Administration

50 CFR Part 660

[Docket No. 250512-0084; RTID 0648-XF028]

Fisheries Off West Coast States; Modification of the West Coast Salmon Fisheries; Inseason Actions #6-#8

AGENCY: National Marine Fisheries Service (NMFS), National Oceanic and Atmospheric Administration (NOAA), Commerce.

ACTION: Inseason modification of 2025-2026 management measures.

SUMMARY: NMFS announces three inseason actions for the 2025 portion of the 2025-2026 ocean salmon fisheries. These inseason actions modify the commercial salmon fisheries in the area from the United States/Canada border to Cape Falcon, Oregon and the recreational salmon fisheries in the area from the Oregon/California border to the U.S./Mexico border.

DATES: The effective dates for these inseason actions are set out in this document under the heading “Inseason Actions” and the actions remain in effect until superseded or modified.

FOR FURTHER INFORMATION CONTACT: Anna Heeter, (971) 361-8895, Anna.Heeter@noaa.gov, or Shannon Penna, (562) 980-4239, Shannon.Penna@noaa.gov.

SUPPLEMENTARY INFORMATION:

Background

The annual management measures for the 2025-2026 ocean salmon fisheries (90 FR 20810, May 16, 2025; 90 FR 26943, June 25, 2025) govern the commercial and recreational fisheries in the area from the United States/Canada border to the United States/Mexico border, effective from 0001 hours Pacific Daylight Time (PDT), May 16, 2025, until the effective date of the 2026-2027 management measures, as published in the Federal Register. NMFS is authorized to implement inseason management actions to modify fishing seasons, catch limits, and quotas as necessary to provide fishing opportunities while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: north of Cape Falcon (NOF) (United States/Canada border to Cape Falcon, OR) and south of Cape Falcon (SOF) (Cape Falcon, OR, to the United States/Mexico border). These actions affected the NOF commercial salmon fishery and the SOF recreational salmon fishery, as set out under the heading Inseason Actions below.

Consultation with the Council Chairman and representatives for the appropriate State Directors on these inseason actions occurred on June 23, 2025. This consultation included representatives from NMFS, Council staff, California Department of Fish and Wildlife (CDFW), Oregon Department of Fish and Wildlife, and Washington Department of Fish and Wildlife (WDFW). Representatives from the Salmon Advisory Subpanel and the Salmon Technical Team (STT) were also present.

These inseason actions were announced on NMFS' telephone hotline and U.S. Coast Guard radio broadcast when the actions became effective (50 CFR 660.411(a)(2)).

Inseason Actions

Inseason Action #6

Description of the action: Inseason action #6 modifies the recreational ocean salmon fishery from the OR/CA border to the United States/Mexico border. Subareas in the recreational ocean salmon fishery between the OR/CA border to the United States/Mexico Border previously scheduled for July 5, 2025 through July 6, 2025; July 31, 2025 through August 3, 2025; and August 25, 2025 through August 31, 2025 are closed.

Effective dates: Inseason action #6 took effect at 12:01 a.m. on July 5, 2025, and remains in effect for the remainder of the summer season.

Reason and authorization for the action: The 2025 California recreational ocean salmon season was structured under a 7,000 Chinook salmon statewide harvest guideline applicable to the June through August season dates. Some subareas in the fishery opened June 7, 2025 and June 8, 2025 and if the harvest guideline was not met, were scheduled to continue for July 5, 2025 through July 6, 2025; July 31, 2025 through August 3, 2025; and August 25, 2025 through August 31, 2025. CDFW estimates that 9,165 Chinook salmon were taken statewide by 10,505 anglers aboard both charter vessels and private skiffs, exceeding the summer fishery harvest guideline of 7,000 Chinook salmon. Therefore, CDFW recommended closure of the remaining July, 2025 and August, 2025 season dates previously scheduled if there were fish remaining in the 7,000 Chinook salmon summer harvest guideline and NMFS concurred and implemented the closure.

The Regional Administrator (RA) considered the 2025 abundance forecasts for Chinook salmon stocks, the timing of the action relative to the length of the season, catch and effort to date, and other relevant factors and determined that the inseason action described above is necessary to meet management and conservation goals set preseason. This inseason action modifies quotas and/or fishing seasons under 50 CFR 660.409(b)(1)(i).

Inseason Action #7

Description of the action: Inseason action #7 modifies the commercial salmon troll fishery in the area north of Cape Falcon. This action opened the commercial salmon troll fishery in the area between the United States/Canada border and Cape Falcon, OR until 11:59 p.m. on June 29, 2025, and set the Chinook salmon landing and possession limit for the entire area, regardless of subarea, at 10 Chinook salmon per vessel for the entire open period.

Effective dates: Inseason action #7 took effect at 4:00 p.m. on June 23, 2025, and remained in effect until 11:59 p.m. on June 29, 2025.

Reason and authorization for the action: After assessing available quota after the landing week of June 12, 2025 through June 18, 2025, WDFW recommended re-opening the spring season after the initial closure under the quota for the spring season to give vessels an opportunity to access the remaining quota, NMFS concurred and implemented this inseason. The very limited amount of quota remaining required a low landing and possession limit. Effort was expected to be low until the end of the spring season as many industry members had indicated they had concluded fishing for the spring season and a vessel limit of 10 Chinook salmon would not be economically viable for some vessels to participate. Due to this projected drop in effort, NMFS determined that the fishery could re-open for the remaining days without exceeding the remaining limited amount of quota.

The RA considered the 2025 abundance forecasts for Chinook salmon stocks, the timing of the action relative to the length of the season, catch and effort to date, projected catch and effort under the proposed action relative to the remaining quota, and other relevant factors and determined that the inseason action described above is necessary to meet management and conservation goals set preseason. This inseason action modifies quotas and/or fishing seasons as well as species caught and landed during specific seasons and the establishment or modification of limited retention regulations under 50 CFR 660.409(b)(1)(i) and (ii).

Inseason Action #8

Description of the action: Inseason action #8 modified the landing and possession limit for the commercial salmon troll fishery across the entire north of Cape Falcon area, regardless of subarea, from the United States/Canada border to Cape Falcon, OR.

Effective dates: Inseason action #8 took effect for the following areas and dates, and will remain in effect until stated or superseded.

• Effective at 12:01 a.m. on July 1, 2025, until 11:59 p.m. on July 9, 2025, for the commercial salmon troll fishery in the area between the United States/Canada border to Cape Falcon, OR, the landing and possession limit was set to 60 Chinook salmon per vessel per vessel per landing week (Thursday-Wednesday).

• Effective at 12:01 a.m. on July 10, 2025, until superseded for the commercial salmon troll fishery in the area between the United States/Canada border to Cape Falcon, OR, the landing and possession limit was modified from 60 Chinook salmon to 50 Chinook salmon per vessel per landing week (Thursday-Wednesday).

Reason and authorization for the action: In the 2025 annual management measures, for the July through September fishery, there are no set landing and possession limits for Chinook salmon for this area. Given the high participation by the troll fleet and the high catch rates observed for much of the spring season, it was deemed prudent to establish a landing and possession limit for the summer season in order to preserve the quota for the length of the season and meet conservation goals. NMFS took the high effort and catch rates seen during the spring season into account when setting these landing limits and the summer season began with a 60 Chinook salmon landing a possession limit for the first week (July 1, 2025 through July 9, 2025). area. To meet season length objectives and preserve later fishing opportunity, the limit was reduced to a 50 Chinook landing and possession limit for the following week (starting July 10, 2025).

The RA considered the 2025 abundance forecasts for Chinook salmon stocks, the timing of the action relative to the length of the season, catch and effort to date, projected catch and effort under the proposed action, and other relevant factors like weather, and determined that the inseason action described above is necessary to meet management and conservation goals set preseason. This inseason action modifies species caught and landed during specific seasons and the establishment or modification of limited retention regulations under 50 CFR 660.409(b)(1)(ii).

All other restrictions and regulations remain in effect as announced for the 2025-2026 ocean salmon fisheries (90 FR 20810, May 16, 2025; 90 FR 26943, June 25, 2025) except as previously modified by inseason actions.

As provided by the inseason notice procedures at 50 CFR 660.411, actual notice of the described regulatory actions was given, prior to the time the actions became effective, by telephone hotline numbers 206-526-6667 and 800-662-9825, and by U.S. Coast Guard Notice to Mariners broadcasts on Channel 16 VHF-FM and 2182 kHz.

Classification

NMFS issues these actions pursuant to section 305(d) of the Magnuson-Stevens Fishery Conservation and Management Act (MSA). These actions are authorized by 50 CFR 660.409, which was issued pursuant to section 304(b) of the MSA, and are exempt from review under Executive Order 12866.

Pursuant to 5 U.S.C. 553(b)(B), there is good cause to waive prior notice and an opportunity for public comment on this action, as notice and comment would be impracticable and contrary to the public interest. Prior notice and opportunity for public comment on this action was impracticable because NMFS had insufficient time to provide for prior notice and the opportunity for public comment between the time Chinook and coho salmon abundance, catch, and effort information were developed and fisheries impacts were calculated, and the time the fishery modifications had to be implemented in order to ensure that fishing opportunity consistent with conservation needs and management objectives is made available, and/or fisheries are managed consistent with quotas and conservation objectives. There is a heightened need to respond quickly to inseason information about the salmon fishery because fish migrate quickly through the EEZ and the mix of stocks in the EEZ shifts throughout the season, thus the time available between the time new information about the fishery becomes available and the opportunity to act effectively on that information exists is short. By the time public notice and comment would be completed, the mix of stocks in the fishery would have changed such that inseason action would be ineffective and potentially harmful. Therefore, NMFS determined waiving notice and comment in order to respond to updated information indicating immediate action to provide fishing opportunity consistent with quotas and conservation objectives, or to avoid exceeding quotas, served the public interest. As previously noted, actual notice of the regulatory action was provided to fishers through telephone hotlines and radio notifications. These actions comply with the requirements of the annual management measures for ocean salmon fisheries (90 FR 20810, May 16, 2025), the Pacific Salmon Fishery Management Plan (FMP), and regulations implementing the FMP under 50 CFR 660.409 and 660.411.

There is good cause under 5 U.S.C. 553(d)(3) to waive the 30-day delay in effective date, as a delay in effectiveness of this action would allow fishing at levels inconsistent with the goals of the FMP and the current management measures.

Authority: 16 U.S.C. 1801 et seq.

Dated: November 13, 2025.
Kelly Denit,
Director, Office of Sustainable Fisheries, National Marine Fisheries Service.

[FR Doc. 2025-20016 Filed 11-14-25; 8:45 am]

BILLING CODE 3510-22-P